DEPARTMENT OF DEFENSE

Office of the Secretary

Defense Business Board; Notice of Advisory Committee Meeting

AGENCY: Department of Defense, DoD.

ACTION: Notice of Advisory Committee Meeting.

SUMMARY: The Defense Business Board (DBB) will meet in open session on Thursday, April 26th at the Pentagon, Washington, DC, from 8:05 a.m. to 8:50 a.m. The mission of the DBB is to advise the Secretary of Defense on effective strategies for implementation of best business practices of interest to the Department of Defense. At this meeting, the Board will deliberate on findings from three task groups: Task Group on Review of Prior DBB Supply Chain Reports, Task Group on Tooth-to-Tail Analysis, and Task Group on Developing a Framework for Analyzing Executive Level Compensation. Copies of DRAFT Task Group presentations will be made available on April 18th by contacting the DBB Office. Members of the public who wish to provide input to the board should submit written comments by 5 p.m., Monday, April 23rd to allow time for distribution to the Board members prior to the meeting. Additionally, those who wish to attend the meeting must contact the Defense Business Board no later than Noon on Monday, April 23rd, for further information about escort arrangements in the Pentagon.

DATES: Thursday, April 26th, 8:05 a.m. to 8:50 a.m.

ADDRESSES: 1155 Defense Pentagon, Room 3C288, Washington, DC 20301-1155.

FOR FURTHER INFORMATION CONTACT: Defense Business Board, 1155 Defense Pentagon, Room 3C288, Washington, DC 20301-1155, via e-mail at defensebusinessboard2@osd.mil or via phone at (703) 697-2168.

Dated: March 30, 2007.
L.M. Bynum,
Alternate OSD Federal Register Liaison Officer, DoD.

[FR Doc. 07-1672 Filed 4-4-07; 8:45am]

BILLING CODE 5001-06-M